NUCLEAR REGULATORY COMMISSION

[Docket No. 72-1]

Notice of Issuance of Renewed Materials License SNM-2500, General Electric Company, Morris Operation, Independent Spent Fuel Storage Installation

AGENCY: Nuclear Regulatory Commission.

ACTION: Notice of issuance of license renewal.

FOR FURTHER INFORMATION CONTACT: Christopher M. Regan, Senior Project Manager, Spent Fuel Project Office, Office of Nuclear Material Safety and Safeguards, U.S. Nuclear Regulatory Commission, Washington, DC 20555. Telephone: (301) 415-1179; fax number: (301) 415-8555; e-mail: cmr1@nrc.gov.

SUPPLEMENTARY INFORMATION:

I. Introduction

The U.S. Nuclear Regulatory Commission (NRC or the Commission) has issued renewed Materials License No. SNM-2500 held by the General Electric Company (GE) for the possession, storage, and transfer of spent fuel at the Morris Operation Independent Spent Fuel Storage Installation (ISFSI), located in Grundy County, Illinois. The renewed license authorizes operation of the Morris Operation ISFSI in accordance with the provisions of the renewed license and its Technical Specifications.

II. Background

By application dated May 22, 2000, as supplemented August 13, 2001, August 6, 2003, and August 9, 2004, GE requested to renew the operating license for the Morris Operation ISFSI. The renewed operating license would permit operation for an additional 20 years beyond the initial licensed period.

III. Finding

The application for the renewed license complies with the standards and requirements of the Atomic Energy Act of 1954 (the Act), as amended, and the Commission's rules and regulations. The Commission has made appropriate findings as required by the Act and the Commission's rules and regulations in 10 CFR Chapter 1, which are set forth in the license. Public notice of the proposed action and opportunity for a hearing regarding the proposed issuance of the renewed license was published in the Federal Register on October 19, 2000 (65 FR 62766).

Further Information: As of October 25, 2004, the NRC initiated an additional security review of publicly available documents to ensure that potentially sensitive information is removed from the Agencywide Documents and Management System (ADAMS) database accessible through the NRC's Web site. Interested members of the public should check the NRC's Web pages for updates on the availability of documents through the ADAMS system. Copies of the referenced documents are available for review and/or copying at the NRC Public Document Room after resumption of public access to ADAMS. The NRC Public Document Room (PDR) Reference staff can be contacted at 1-800-397-4209, 301-415-4737 or by e-mail to pdr@nrc.gov.

Dated at Rockville, Maryland, this 21st day of December, 2004.
For the Nuclear Regulatory Commission.
Christopher M. Regan,
Senior Project Manager, Licensing Section, Spent Fuel Project Office, Office of Nuclear Material Safety and Safeguards.

[FR Doc. 05-149 Filed 1-4-05; 8:45 am]

BILLING CODE 7590-01-P